CORPORATION FOR NATIONAL AND COMMUNITY SERVICE

Information Collection; Submission for OMB Review, Comment Request

AGENCY: Corporation for National and Community Service.

ACTION: Notice.

SUMMARY: The Corporation for National and Community Service (hereinafter the “Corporation”), has submitted a public information collection request (ICR) entitled Collection of State Service Plans from State Commissions, to the Office of Management and Budget (OMB) for review and approval in accordance with the Paperwork Reduction Act of 1995, Public Law 104-13, (44 U.S.C. Chapter 35). A copy of this ICR, with applicable supporting documentation, may be obtained by contacting the Corporation for National and Community Service, AmeriCorps, Amy Borgstrom, Associate Director of Policy, (202) 606-6930, or by e-mail at ABorstrom@cns.gov. Individuals who use a telecommunications device for the deaf (TTY-TDD) may call (202) 606-3472 between 8:30 a.m. and 5 p.m. eastern time, Monday through Friday.

ADDRESSES: Comments may be submitted, identified by the title of the information collection activity, to Office of Information and Regulatory Affairs, Attn: Ms. Rachel Potter, OMB Desk Officer for the Corporation for National and Community Service, by any of the following two methods within 30 days from the date of publication in this Federal Register:

(a) By fax to: (202) 395-6974, Attention: Ms. Rachel Potter, OMB Desk Officer for the Corporation for National and Community Service; and

(b) Electronically by e-mail to: Rachel_F._Potter@omb.eop.gov.

SUPPLEMENTARY INFORMATION: The OMB is particularly interested in comments which:

• Evaluate whether the proposed collection of information is necessary for the proper performance of the functions of the Corporation, including whether the information will have practical utility;

• Evaluate the accuracy of the agency's estimate of the burden of the proposed collection of information, including the validity of the methodology and assumptions used;

• Propose ways to enhance the quality, utility, and clarity of the information to be collected; and

• Propose ways to minimize the burden of the collection of information on those who are to respond, including through the use of appropriate automated, electronic, mechanical, or other technological collection techniques or other forms of information technology, e.g., permitting electronic submissions of responses.

Comments

A 60-day public comment Notice was published in the Federal Register on November 25, 2005. This comment period ended January 24, 2006. No public comments were received from this notice.

Currently, the Corporation is soliciting comments concerning its proposed collection of State Service Plans from State Commissions. These plans are submitted by State Commissions as required by statute. The plans are elicited in order to assure that national service and volunteer service entities within a state are aware of each other and are coordinating activities to maximize their ability to leverage both human and financial resources in order to address significant unmet community needs.

This new proposed information collection consists of the following instruction:

In 2006, the Corporation requests that you address the following questions in order to comply with the statutory requirement to provide a State Service Plan:

1. Please describe your projected program focus for the next three years of planned state service activities.

2. Please describe ongoing efforts or special initiatives that involve collaborating with the Corporation State Office, State Education Agencies, state networks of volunteer centers, Campus Compacts, National Direct grantees and/or other service organizations within the state.

3. What non-monetary support do you believe you need from the Corporation (Headquarter Offices and/or your State Office) in order for your State Plan to be successful (such as training and technical assistance, for example)?

Your State Service Plan may also include other elements that you and your service partners find useful.

Type of Review: New.

Agency: Corporation for National and Community Service.

Title: State Service Plans.

OMB Number: None.

Agency Number: None.

Affected Public: State Service Commissions.

Total Respondents: 54.

Frequency: Once every three years.

Average Time Per Response: 24 hours.

Estimated Total Burden Hours: 1296 hours.

Total Burden Cost (capital/startup): None.

Total Burden Cost (operating/maintenance): None.

Dated: March 10, 2006.
Mark Abbott,
Senior Advisor, Office of the Chief Operating Officer, Corporation for National and Community Service.

[FR Doc. E6-3837 Filed 3-15-06; 8:45 am]

BILLING CODE 6050-$$-P